DEPARTMENT OF THE INTERIOR

Fish and Wildlife Service

[FWS-R8-ES-2016-N097; FXES11130800000-167-FF08E00000]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with endangered and threatened species unless a Federal permit allows such activity. The Act also requires that we invite public comment before issuing recovery permits to conduct certain activities with endangered species.

DATES: Comments on these permit applications must be received on or before July 20, 2016.

ADDRESSES: Written data or comments should be submitted to the Endangered Species Program Manager, U.S. Fish and Wildlife Service, Region 8, 2800 Cottage Way, Room W-2606, Sacramento, CA 95825 (telephone: 916-414-6464; fax: 916-414-6486). Please refer to the respective permit number for each application when submitting comments.

FOR FURTHER INFORMATION CONTACT: Daniel Marquez, Fish and Wildlife Biologist; see ADDRESSES (telephone: 760-431-9440; fax: 760-431-9624).

SUPPLEMENTARY INFORMATION: The following applicants have applied for scientific research permits to conduct certain activities with endangered species under section 10(a)(1)(A) of the Act (16 U.S.C. 1531 et seq.). We seek review and comment from local, State, and Federal agencies and the public on the following permit requests.

Applicants

Permit No. TE-080779

Applicant: Melissa Busby, San Diego, California

The applicant requests a permit renewal to take (survey by pursuit) the Quino checkerspot butterfly (Euphydryas editha quino); and take (harass by survey, capture, handle, release, collect vouchers, analyze soil samples, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi) in conjunction with survey activities throughout the range of the species in California for the purpose of enhancing the species' survival.

Permit No. TE-85448A

Applicant: East Bay Zoological Society, Oakland, California

The applicant requests a permit renewal to take (receive, handle, and administer veterinary treatment and care) the California condor (Gymnogyps californianus) in conjunction with general husbandry activities at the Oakland Zoo in Oakland, California, for the purpose of enhancing the species' survival.

Permit No. TE-170381

Applicant: Bill Stagnaro, San Francisco, California

The applicant requests a permit renewal to take (harass by survey, capture, handle, and release) the San Francisco garter snake (Thamnophis sirtalis tetrataenia); and take (harass by survey using taped vocalization callback) the California Ridgway's rail (California clapper r.) (Rallus obsoletus obsoletus) (R. longirostris o.) in conjunction with survey activities throughout the range of the species in California for the purpose of enhancing the species' survival.

Permit No. TE-94719B

Applicant: Richard Lis, Redding, California

The applicant requests a permit to take (harass by survey, capture, handle, release, collect vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi) in conjunction with survey activities throughout the range of the species in California for the purpose of enhancing the species' survival.

Permit No. TE-94702B

Applicant: Kristin Hubbard, Redding, California

The applicant requests a permit to take (harass by survey, capture, handle, release, collect vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi) in conjunction with survey activities throughout the range of the species in California for the purpose of enhancing the species' survival.

Permit No. TE-94998A

Applicant: Leonard Liu, Oakland, California

The applicant requests a permit renewal to take (harass by survey using taped vocalization callback) the California Ridgway's rail (California clapper r.) (Rallus obsoletus obsoletus) (R. longirostris o.) in conjunction with survey activities in Marin, Sonoma, Napa, Solano, Contra Costa, Alameda, Santa Clara, San Mateo, and San Francisco Counties, California, for the purpose of enhancing the species' survival.

Permit No. TE-174305

Applicant: Vandenberg Air Force Base, Vandenberg AFB, California

The applicant requests a permit renewal to take (harass by survey, and locate and monitor nests) the California least tern (Sternula antillarum browni) (Sterna a. browni); take (harass by survey, locate and monitor nests, and remove brown-headed cowbird (Molothrus ater) eggs and chicks from parasitized nests) the southwestern willow flycatcher (Empidonax traillii extimus) in Santa Barbara County, California; and remove/reduce to possession Nasturtium gambelii (Rorippa g.) (Gambel's watercress), Deinandra increscens subsp. villosa (Gaviota tarplant), Layia carnosa (beach layia), Eriodictyon capitatum (Lompoc yerba santa), Cirsium loncholepis (La Graciosa thistle), and Diplacus vandenbergensis (Vandenberg monkeyflower) from Federal lands in Santa Barbara County, California, in conjunction with survey and research activity for the purpose of enhancing the species' survival.

Permit No. TE-789255

Applicant: Robert Patton, San Diego, California

The applicant requests a permit renewal to take (harass by survey, locate and monitor nests, handle/mark eggs, capture, band, and release) the California least tern (Sternula antillarum browni) (Sterna a. browni) in conjunction with survey and population monitoring activities in San Diego County, California, for the purpose of enhancing the species' survival.

Permit No. TE-118356

Applicant: Olofson Environmental, Inc., Oakland, California

The applicant requests a permit renewal to take (harass by survey using taped vocalization callback) the California Ridgway's rail (California clapper r.) (Rallus obsoletus obsoletus) (R. longirostris o.) in conjunction with survey activities in Marin, Sonoma, Napa, Solano, Contra Costa, Alameda, Santa Clara, San Mateo, and San Francisco Counties, California, for the purpose of enhancing the species' survival.

Permit No. TE-036550

Applicant: Nina Jimerson-Kidd, Murrieta, California

The applicant requests a permit renewal to take (survey by pursuit) the Quino checkerspot butterfly (Euphydryas editha quino) in conjunction with survey activities throughout the range of the species in California for the purpose of enhancing the species' survival.

Permit No. TE-157199

Applicant: Julie Stout, San Diego, California

The applicant requests a permit renewal to take (harass by survey, and locate and monitor nests) the California least tern (Sternula antillarum browni) (Sterna a. browni) in conjunction with survey activities throughout the range of the species in California for the purpose of enhancing the species' survival.

Public Comments

We invite public review and comment on each of these recovery permit applications. Comments and materials we receive will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Angela Picco,
Acting Regional Director, Pacific Southwest Region, Sacramento, California.

[FR Doc. 2016-14424 Filed 6-17-16; 8:45 am]

BILLING CODE 4333-15-P